DEPARTMENT OF COMMERCE

National Oceanic and Atmospheric Administration

[I.D. 103000F]

South Atlantic Fishery Management Council; Public Meetings

AGENCY: National Marine Fisheries Service (NMFS), National Oceanic and Atmospheric Administration (NOAA), Commerce.

ACTION: Notice of public meetings.

SUMMARY: The South Atlantic Fishery Management Council (Council) will hold meetings of its Advisory Panel Selection Committee (closed), Controlled Access Committee, Marine Reserves Committee, Dolphin Wahoo Committee and the South Atlantic Board. Joint meetings of the Snapper Grouper Committee and Advisory Panel, the Law Enforcement Committee and Advisory Panel, and the Red Drum Committee and the South Atlantic Board will also be held. Public comment periods will be held on the proposed Dolphin Wahoo Fishery Management Plan (FMP) and any framework changes to the Snapper Grouper FMP. There will also be a Council Session.

DATES: The meetings will be held from November 27-December 1, 2000. See SUPPLEMENTARY INFORMATION for specific dates and times.

ADDRESSES: The meetings will be held at the Sheraton Atlantic Beach Hotel, 2717 West Fort Macon Road, Atlantic Beach, NC 28512; telephone: 1-800-624-8875 or (252) 240-1155, fax: (252) 240-1452.

Council address: South Atlantic Fishery Management Council, One Southpark Circle, Suite 306; Charleston, SC 29407-4699.

FOR FURTHER INFORMATION CONTACT: Kim Iverson, Public Information Officer; telephone: (843) 571-4366; fax: (843) 769-4520; email: kim.iverson@noaa.gov

SUPPLEMENTARY INFORMATION:

Meeting Dates

November 27, 2000, 1:30 p.m. - 5:30 p.m.- Joint Snapper Grouper Committee and Advisory Panel Meeting;

The Snapper Grouper Committee and Advisory Panel will meet jointly to review snapper grouper species assessments and reports, review the Compliance Report, review framework items including the use of powerheads, quota overruns and other items as necessary. The Committee and Advisory Panel will also hear a report on the status of the red porgy assessment and projections peer review.

November 28, 2000, 8:30 a.m. - 10 a.m.- Joint Snapper Grouper Committee and Advisory Panel Meeting (continued);

The Snapper Grouper Committee and Advisory Panel will meet to develop Committee recommendations for ranking marine reserves criteria and for the National Artificial Reef Plan.

November 28, 2000, 10 a.m. to 12 noon- Marine Reserves Committee Meeting;

The Marine Reserves Committee will meet to develop recommendations on the Gray's Reef Memorandum of Understanding (MOU), discuss development of a strategy to incorporate Gray's Reef in the Council's marine reserve process, review and develop comments and recommendations on the NMFS draft White Paper, develop recommendations for ranking marine reserves criteria and review the status of a closed area lawsuit in the Gulf of Mexico.

November 28, 2000, 1:30 p.m. - 3:30 p.m.- Dolphin Wahoo Committee Meeting;

The Dolphin Wahoo Committee will meet to review the actions of the Caribbean and Gulf of Mexico Councils regarding the Dolphin Wahoo FMP and revisions to the FMP specific to the other Council's actions.

November 28, 2000, 3:30 p.m. - 5 p.m.- Joint Red Drum Committee and South Atlantic Board Meeting;

The Red Drum Committee will meet jointly with the South Atlantic Board to receive a briefing on the process for transferring red drum management to the Atlantic States Marine Fisheries Commission (ASMFC) and provide directions to staff.

November 29, 2000, 8:30 a.m. - 10:30 a.m.- South Atlantic Board Meeting;

The South Atlantic Board will meet to discuss the coordination of fish contaminant sampling and hear presentations on the 2001-05 management plan, trawl survey results and the data management web page and data access items.

November 29, 2000, 10:30 a.m. - 12 noon- Advisory Panel Selection Committee Meeting (closed session);

The Advisory Panel Selection Committee will meet to review membership applications and develop recommendations.

November 29, 2000, 1:30 p.m.- 5:30 p.m. - Controlled Access Committee Meeting;

The Controlled Access Committee will meet to hear a NMFS presentation on vessel capacity issues and develop recommendations, review options for rock shrimp controlled access and develop recommendations to staff.

November 30, 2000, 8:30 a.m. - 12 noon- Joint Law Enforcement Committee and Advisory Panel Meeting;

The Law Enforcement Committee and Advisory Panel will meet to hear reports on the South Carolina/NMFS cooperative law enforcement grant and the status of Congressional funding for law enforcement, develop recommendations for ranking marine reserve criteria, review the status of Vessel Monitoring Systems in the Southeast, discuss law enforcement benefits of requiring the use of vessel operator permits, review options for rock shrimp controlled access, hear a report on NOAA General Counsel enforcement related activities, review the Compliance Report and discuss the law enforcement aspects of the use of powerheads.

November 30, 2000, 1:30 p.m. - 5:15 p.m.- Council Session.

From 1:30 p.m. - 1:45 p.m., the Council will call the meeting to order, adopt the agenda and approve minutes from the September 2000 meeting.

From 1:45 p.m. - 2:30 p.m., the Council will hold a public comment period on any proposed changes to the Dolphin Wahoo FMP (beginning at 1:45 p.m.), hear a report from the Dolphin Wahoo Committee and as necessary modify the FMP and re-approve it for submission to the Secretary of Commerce.

From 2:30 p.m.- 3 p.m., the Council will hear a report from the Law Enforcement Committee including their recommendations for ranking marine reserves criteria.

From 3 p.m. - 3:45 p.m., the Council will hold a public comment period on any Council proposed framework changes to the Snapper Grouper FMP (beginning at 3:00 p.m.), hear a report from the Snapper Grouper Committee and make a decision on framework actions.

From 3:45 p.m. - 4:15 p.m., the Council will hear a report from the Marine Reserves Committee, consider the Gray's Reef MOU, develop a strategy to incorporate Gray's Reef in the Council's marine reserve process and develop comments and recommendations on the NMFS draft White Paper.

From 4:15 p.m. - 4:45 p.m., the Council will hear a report from the Controlled Access Committee and develop comments on vessel capacity issues.

From 4:45 p.m. - 5:15 p.m., the Council will hear a report from the Advisory Panel Selection Committee and appoint new advisory panel members (closed session).

December 1, 2000, 8:30 a.m.- 12 noon - Council Session

From 8:30 a.m. - 9 a.m., the Council will hear a report from the Red Drum Committee and provide directions to staff.

From 9 a.m. - 9:15 a.m., the Council will hear a report from staff updating economic activities and issues.

From 9:15 a.m. - 9:30 a.m., the Council will hear a report from staff updating social activities and issues.

From 9:30 a.m. - 10 a.m., the Council will hear a report on the status of the Bluefish FMP from the Mid-Atlantic Fishery Management Council.

From 10 a.m. - 10:30 a.m., the Council will hear a presentation on the NMFS Southeast Regional Office's permit program.

From 10:30 a.m. - 11 a.m., the Council will hear a presentation on Endangered Species Act Section 7 Consultations from the NMFS.

From 11 a.m. - 11:10 a.m., the Council will hear an update on the Atlantic Coastal Cooperative Statistics Program.

From 11:10 a.m. - 11:20 a.m., the Council will hear a report on the Ecosystem Management Workshop.

From 11:20 a.m. - 11:30 a.m., the Council will hear NMFS Status Reports on 2000/01 Mackerel Framework, the resubmitted Calico Scallop FMP and the resubmitted Sargassum FMP. Council will also hear NMFS Status Reports on Landings for Atlantic king mackerel, Gulf king mackerel (eastern zone), Atlantic Spanish mackerel, Snowy grouper & Golden tilefish, wreckfish, greater amberjack and south Atlantic Octocorals.

From 11:30 p.m.- 12 noon, Council will hear agency and liaison reports and discuss other business and upcoming meetings.

Although non-emergency issues not contained in this agenda may come before this Council for discussion, those issues may not be the subjects of formal Council action during this meeting. Council action will be restricted to those issues specifically listed in this notice and any issues arising after publication of this notice that require emergency action under section 305(c) of the Magnuson-Stevens Act, provided the public has been notified of the Council’s intent to take final action to address the emergency.

Special Accommodations

These meetings are physically accessible to people with disabilities. Requests for sign language interpretation or other auxiliary aids should be directed to the Council office (see ADDRESSES) by November 20, 2000.

Dated: November 2, 2000.
Richard W. Surdi,
Acting Director, Office of Sustainable Fisheries, National Marine Fisheries Service.

[FR Doc. 00-28677 Filed 11-7-00; 8:45 am]

BILLING CODE 3510-22-S